FEDERAL ELECTION COMMISSION

[Notice 2003-11]

Filing Dates for the Texas Special Election in the 19th Congressional District

AGENCY: Federal Election Commission.

ACTION: Notice of filing dates for special election.

SUMMARY: Texas has scheduled a special runoff election on June 3, 2003, to fill the U.S. House of Representatives seat in the Nineteenth Congressional District vacated by Representative Larry Combest. On May 3, 2003, a Special General Election was held, with no candidate achieving a majority vote. Under Texas law, a Special Runoff Election will now be held with the two top vote-getters participating.

Committees participating in the Texas Special Runoff Election are required to file pre- and post-election reports.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates participating in the Texas Special Runoff Election shall file a 12-day Pre-Runoff Report on May 22, 2003; and a 30-day Post-Runoff Report on July 3, 2003. (See chart below for the closing date for each report).

Unauthorized Committees (PACs and Party Committees)

Political committees that file on a semiannual basis in 2003 are subject to special election reporting if they make previously undisclosed contributions or expenditures in connection with the Texas Special Runoff Election by the close of books for the applicable report(s). (See chart below for the closing date for each report).

Committees filing monthly that support candidates in the Texas Special Runoff Election should continue to file according to the monthly reporting schedule.

Calendar of Reporting Dates for Texas Special Election Committees Involved in the Special Runoff (06/03/03) Must File
Report | Close of books ¹ | Reg./Cert. mailing date ² | Filing date
Pre-Runoff | 05/14/03 | 05/19/03 | 05/22/03
Post-Runoff | 06/23/03 | 07/03/03 | 07/03/03
¹ The period begins with the close of books of the last report filed by the committee. If the committee has filed no previous reports, the period begins with the date of the committee's first activity.
² Pre- and Post-Runoff Reports sent registered or certified mail must be postmarked by the mailing date; otherwise, they must be received by the filing date. Committees should keep the mailing receipt with its postmark as proof of filing.

Dated: May 16, 2003.
Ellen L. Weintraub,
Chair, Federal Election Commission.

[FR Doc. 03-12790 Filed 5-21-03; 8:45 am]

BILLING CODE 6715-01-P